DEPARTMENT OF ENERGY

Federal Energy Regulatory Commission

[Docket No. RP03-8-000]

Transcontinental Gas Pipe Line Corporation; Notice of Tariff Filing

October 4, 2002.

Take notice that on October 1, 2002 Transcontinental Gas Pipe Line Corporation (Transco) tendered for filing as part of its FERC Gas Tariff, Third Revised Volume No. 1 Seventeenth Revised Sheet No. 29, to become effective November 1, 2002.

Transco states that the filing is submitted pursuant to Section 38 of the General Terms and Conditions of Transco's FERC Gas Tariff which provides that Transco will file a redetermination of its fuel retention percentage applicable to Rate Schedules LG-A, LNG, LNG-R and LG-S (LNG Rate Schedules) to be effective each November 1. The derivation of the revised fuel retention percentage included therein is based on Transco's actual gas required for operations (GRO) for the period September 1999 through August 2002 plus the balance accumulated in the Deferred GRO Account at August 31, 2002. Appendix A contains workpapers supporting the derivation of the revised fuel retention percentages.

Transco states that copies of the filing are being mailed to its affected customers and interested State Commissions. Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-25837 Filed 10-10-02; 8:45 am]

BILLING CODE 6717-01-P